DEPARTMENT OF HEALTH AND HUMAN SERVICES

Administration for Children and Families

Proposed Information Collection Activity; Comment Request

Proposed Projects

Title: Head Start Facilities Construction, Purchase and Major Renovation.

OMB No.: 0970-0193.

Description: The Office of Head Start within the Administration for Children and Families, United States Department of Health and Human Services, is proposing to renew authority to collect information on funding for the purchase, construction or renovation of facilities. All information is collected electronically through the Head Start Enterprise System (HSES). The information required is in conformance with Section 644(f) and (g) of the Act. Federal funding officials use the information to determine that the proposed purchase has resulted in savings when compared to the costs that would be incurred to acquire the use of an alternative facility, or that the lack of alternative facilities will prevent, or would have prevented, the operation of the program. The rule further describes the assurances which are necessary to protect the Federal interest in real property and the conditions under which federal interest may be subordinated and protected when grantees make use of debt instruments when purchasing facilities. The information is used by funding officials to determine if grantee's arrangements adequately conform to other applicable statutes which apply to the expenditure of public funds for the purchase of real property.

Respondents: Head Start and Early Head Start program grant recipients.

Annual Burden Estimates
Instruments | Number of respondents | Number of responses per respondent | Average burden hours per response | Total burden hours
Administrative Requirements | 225 | 1 | 41 | 9225

Estimated Total Annual Burden Hours: 9225.

Cost per respondent is $40 estimated at 2 hours × $20.00 per hour.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-12924 Filed 5-27-15; 8:45 am]

BILLING CODE 4184-01-P